DEPARTMENT OF ENERGY

Federal Energy Regulatory Commission

Notice

October 17, 2001.

The following notice of meeting is published pursuant to section 3(a) of the Government in the Sunshine Act (Pub. L. No. 94-409), 5 U.S.C 552b:

Agency Holding Meeting: Federal Energy Regulatory Commission.

Date and Time: October 24, 2001, 10 a.m.

Place: Room 2c, 888 First Street, NE., Washington, DC 20426.

Status: Open.

Matters To Be Considered: Agenda.

* Note.— Items listed on the agenda may be deleted without further notice.

Contact Person for More Information: David P. Boergers, Secretary, Telephone (202) 208-0400, For a Recording Listing Items Stricken From or Added to the Meeting, Call (202) 208-1627.

This is a list of matters to be considered by the Commission. It does not include a listing of all papers relevant to the items on the agenda; however, all public documents may be examined in the reference and information center.

777th—Meeting, October 24, 2001, Regular Meeting, 10 a.m.

Administrative Agenda

A-1.

Docket# AD02-1, 000, Agency Administrative Matters

A-2.

Docket# AD02-2, 000, Legislative Matters

A-3.

Docket# AD02-3, 000, Customer Matters

A-4.

Docket# AD02-4, 000, Reliability, Security and Market Operations

Miscellaneous Agenda

M-1.

Reserved

Markets, Tariffs and Rates—Electric

E-1.

Docket# EX02-1, 000, Discussion of RTO Developments in the Northeast

Other#s RT01-99, 000, Regional Transmission Organizations

RT01-2, 000, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities Inc.

RT01-98, 000, PJM Interconnection, L.L.C. and Allegheny Power

RT01-95, 000, New York Independent System Operator, Inc., Central Hudson Gas & Electric Corporation, Consolidated Edison Company of New York, Inc., Niagara Mohawk Power Corporation, New York State Electric & Gas Corporation, Orange & Rockland Utilities, Inc. and Rochester Gas & Electric Corporation

RT01-86, 000, Bangor Hydro-Electric Company, Central Maine Power Company, National Grid USA, Northeast Utilities Service Company, The United Illuminating Company, Vermont Electric Power Company and ISO New England Inc.

E-2.

Docket# EX02-2, 000, Discussion of RTO Developments in the Southeast

Other#s RT01-100, 000, Regional Transmission Organizations

RT01-74, 000, GridSouth Transco, LLC, Carolina Power & Light Company, Duke Energy Corporation and South Carolina Electric & Gas Company

RT01-34, 000, Southwest Power Pool, Inc.

RT01-75, 000, Entergy Services, Inc.

RT01-77, 000, Southern Company Services, Inc.

E-3.

Docket# EX02-3, 000, Discussion of RTO Developments in the Midwest

Other#s RT01-87, 000, Midwest Independent Transmission System Operator, Inc., Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., The Cleveland ELectric Illuminating Company, Ohio Edison Company, Pennsylvania Power Company, Toledo Edison Company, The Detroit Edison Company, International Transmission Company and Virginia Electric and Power Company

RT01-88, 000, Midwest Independent Transmission System Operator, Inc., Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., The Cleveland ELectric Illuminating Company, Ohio Edison Company, Pennsylvania Power Company, Toledo Edison Company, The Detroit Edison Company, International Transmission Company and Virginia Electric and Power Company

ER01-123, 000, Midwest Independent Transmission System Operator, Inc., Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., The Cleveland ELectric Illuminating Company, Ohio Edison Company, Pennsylvania Power Company, Toledo Edison Company, The Detroit Edison Company, International Transmission Company and Virginia Electric and Power Company

ER01-780, 000, Midwest Independent Transmission System Operator, Inc., Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., The Cleveland ELectric Illuminating Company, Ohio Edison Company, Pennsylvania Power Company, Toledo Edison Company, The Detroit Edison Company, International Transmission Company and Virginia Electric and Power Company

ER01-966, 000, Midwest Independent Transmission System Operator, Inc., Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., The Cleveland ELectric Illuminating Company, Ohio Edison Company, Pennsylvania Power Company, Toledo Edison Company, The Detroit Edison Company, International Transmission Company and Virginia Electric and Power Company

ER99-3144, 000, Midwest Independent Transmission System Operator, Inc., Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., The Cleveland ELectric Illuminating Company, Ohio Edison Company, Pennsylvania Power Company, Toledo Edison Company, The Detroit Edison Company, International Transmission Company and Virginia Electric and Power Company

EC99-80, 000, Midwest Independent Transmission System Operator, Inc., Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., The Cleveland ELectric Illuminating Company, Ohio Edison Company, Pennsylvania Power Company, Toledo Edison Company, The Detroit Edison Company, International Transmission Company and Virginia Electric and Power Company

EL01-80, 000, National Grid USA

E-4.

Docket# AD01-2, 000, Discussion of Western Infrastructure Adequacy Conference

E-5.

Docket# RM01-12, 000, Electricity Market Design and Structure

E-6.

Docket# ER01-2922, 000, New England Power Pool

E-7.

Docket# ER01-2967, 000, New York Independent System Operator, Inc.

E-8.

Omitted

E-9.

Docket# ER01-2994, 000, Arizona Public Service Company

E-10.

Docket# ER01-2984, 000, Cinergy Services, Inc.

E-11.

Docket# ER01-2977, 000, American Electric Power Service Corporation

Other#s ER01-2658, 000, American Electric Power Service Corporation

ER01-2980, 000, American Electric Power Service Corporation

E-12.

Docket# ER01-2985, 000, Commonwealth Edison Company

E-13.

Docket# ER01-3001, 000, New York Independent System Operator, Inc.

E-14.

Docket# ER01-3009, 000, New York Independent System Operator, Inc.

Other#s EL00-90, 000, Morgan Stanley Capital Group, Inc. v. New York Independent System Operator, Inc.

ER01-3153, 000, New York Independent System Operator, Inc.

E-15.

Docket# ER01-3014, 000, PJM Interconnection L.L.C.

E-16.

Docket# ER01-3026, 000, American Electric Power Service Corporation

E-17.

Docket# ER01-3022, 000, Cinergy Services, Inc.

E-18.

Docket# ER01-3086, 000, ISO New England Inc.

E-19.

Docket# EL00-95, 034, San Diego Gas & Electric Company v. Sellers of Energy and Ancillary Services Into Markets Operated by the California Independent System Operator Corporation and the California Power Exchange

Other#s EL00-98, 038, Investigation of Practices of the California Independent System Operator and the California Power Exchange

E-20.

Docket# ER01-1639, 000, Pacific Gas and Electric Company

E-21.

Docket# ER01-2685, 000, PacifiCorp Power Marketing, Inc.

E-22.

Omitted

E-23.

Docket# ER97-1523, 066, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other#s OA97-470, 061, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 059, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

E-24.

Docket# EC01-145, 000, EME Homer City Generation L.P.

Other#s EL01-110, 000, EME Homer City Generation L.P.

E-25.

Docket# ER01-2163, 001, American Electric Power Service Corporation

E-26.

Docket# EL01-93, 001, Mirant Americas Energy Marketing, L.P., Mirant New England, LLC, Mirant Kendall, LLC and Mirant, LLC v. ISO New England Inc.

E-27.

Omitted

E-28.

Omitted

E-29.

Omitted

E-30.

Docket# EL01-124, 000, Calpine Eastern Corporation, Mirant Americas Energy Marketing, LP, Mirant New England, LLC, Mirant Kendall, LLC, Mirant Canal, LLC and FPL Energy, LLC v. ISO New England, Inc.

Other#s ER01-2559, 001, ISO New England, Inc.

ER01-2559, 002, ISO New England, Inc.

Markets, Tariffs and Rates—Gas

G-1.

Docket# RP01-613, 000, Northwest Pipeline Corporation

Other#s RP01-613, 001, Northwest Pipeline Corporation

G-2.

Docket# RP01-612, 000, ANR Pipeline Company

G-3.

Omitted

G-4.

Docket# RP96-389, 031, Columbia Gulf Transmission Company

G-5.

Docket# RP96-389, 032, Columbia Gulf Transmission Company

G-6.

Docket# RP02-5, 000, TransColorado Gas Transmission Company

G-7.

Docket# GT01-35, 000, ANR Pipeline Company

G-8.

Omitted

G-9.

Docket# RP01-626, 000, Dominion Transmission, Inc.

G-10.

Docket# PR01-16, 000, Bridgeline Holdings, L.P.

G-11.

Docket# PR01-17, 000, Raptor Natural Pipeline LLC

G-12.

Docket# RP97-406, 032, Dominion Transmission, Inc.

Other#s RP01-74, 007, Dominion Transmission, Inc.

G-13.

Docket# RP00-223, 005, Northern Natural Gas Company

G-14.

Docket# IS01-33, 000, Alpine Transportation Company

G-15.

Docket# RP00-399, 003, National Fuel Gas Supply Corporation

Other#s RP00-399, 004, National Fuel Gas Supply Corporation

RP00-399, 005, National Fuel Gas Supply Corporation

RP01-2, 001, National Fuel Gas Supply Corporation

G-16.

Docket# GT01-25, 001, ANR Pipeline Company

G-17.

Docket# RP01-232, 002, Northwest Pipeline Corporation

G-18.

Docket# RP01-246, 002, Natural Gas Pipeline Company of America

G-19.

Docket# RP99-301, 029, ANR Pipeline Company

G-20.

Docket# RP99-301, 030, ANR Pipeline Company

G-21.

Docket# MG01-29, 000, Pine Needle LNG Company LLC

G-22.

Docket# MG01-28, 000, Vector Pipeline, L.P.

G-23.

Docket# RP01-539, 000, Texas Gas Transmission Corporation

G-24.

Docket# RP01-624, 000, Gulf South Pipeline Company, LP

Energy Projects—Hydro

H-1.

Docket# HB61-93-11, 004, Public Service Company of New Hampshire, CHI Energy, Inc. and Essex Hydro Associates

H-2.

Docket# P-11871, 001, Symbiotics, L.L.C.

Other#s P-11884, 002, City of Twin Falls, Idaho

H-3.

Docket# DI98-2, 001, Alaska Power & Telephone Company

H-4.

Omitted

H-5.

Docket# P-4204, 025, City of Batesville, Arkansas

Other#s P-4659, 027, Independence County, Arkansas

P-4660, 029, Independence County, Arkansas

H-6.

Docket# P-1962, 000, Pacific Gas & Electric Company

Other#s P-1962, 028, Pacific Gas & Electric Company

Energy Projects—Certificates

C-1.

Docket# CP01-79, 000, ANR Pipeline Company

C-2.

Docket# CP01-389, 000, Transcontinental Gas Pipe Line Corporation

C-3.

Docket# CP01-69, 000, Petal Gas Storage, L.L.C.

Other#s CP01-69, 001, Petal Gas Storage, L.L.C.

C-4.

Docket# CP01-444, 000, Calypso Pipeline, LLC

C-5.

Docket# CP01-87, 001, Dominion Transmission, Inc.

C-6.

Docket# CP01-106, 001, Kern River Gas Transmission Company

C-7.

Docket# CP01-70, 001, Columbia Gas Transmission Corporation

Other#s CP01-70, 002, Columbia Gas Transmission Corporation

C-8.

Docket# CP01-31, 002, Kern River Gas Transmission Company

Other#s CP01-31, 000, Kern River Gas Transmission Company

CP01-31, 001, Kern River Gas Transmission Company

C-9.

Docket# CP01-49, 001, Northwest Pipeline Corporation

Other#s CP01-49, 000, Northwest Pipeline Corporation

C-10.

Docket# CP01-141, 001, PG&E Gas Transmission Northwest Corporation

C-11.

Docket# CP01-97, 001, Nornew Energy Supply Inc. and Norse Pipeline, L.L.C.

David P. Boergers,
Secretary.

[FR Doc. 01-26666 Filed 10-18-01; 12:17 pm]

BILLING CODE 6717-01-P